DEPARTMENT OF HEALTH AND HUMAN SERVICES

Administration for Children and Families

Proposed Information Collection Activity; Child Care Development Fund (CCDF) ACF-696T Financial Report for Tribes (OMB #0970-0510)

AGENCY: Office of Child Care, Administration for Children and Families, U.S. Department of Health and Human Services.

ACTION: Request for public comments.

SUMMARY: The Administration for Children and Families (ACF) Office of Child Care plans to submit revisions to an approved generic information collection (GenIC) under the umbrella generic: Generic Clearance for Financial Reports used for ACF Non-Discretionary Grant Programs (0970-0510). The request revises ACF-696T, the annual financial report for tribal CCDF grant programs to submit financial claims. This specific form collects financial data for Tribal CCDF programs. The proposed revisions to the ACF-696T will provide reporting instructions to Tribal Lead Agencies who are approved under a temporary opportunity to retroactively request the use CCDF funds, including most COVID-relief funds, for construction and/or major renovation with the intent of offsetting increased costs of materials, labor, and other related project costs.

DATES: Comments due within 14 days of publication. In compliance with the requirements of the Paperwork Reduction Act of 1995, ACF is soliciting public comment on the specific aspects of the information collection described above and below.

ADDRESSES: Copies of the proposed collection of information can be obtained and comments may be forwarded by emailing infocollection@acf.hhs.gov. All requests should be identified by the title of the information collection.

SUPPLEMENTARY INFORMATION:

Description: ACF programs require detailed financial information from their grantees that allows ACF to monitor various specialized cost categories within each program, to closely manage program activities, and to have sufficient financial information to enable periodic thorough and detailed audits. Generic Clearance for Financial Reports used for ACF Non-Discretionary Grant Programs allows ACF programs to efficiently develop and receive approval for financial reports that are tailored to specific funding recipients and the associated needs of the program. For more information about the umbrella generic, see: https://www.reginfo.gov/public/do/PRAViewDocument?ref_nbr=202108-0970-002.

This specific GenIC collects financial data for tribal CCDF programs. The proposed revisions to the ACF-696T will provide reporting instructions to Tribal Lead Agencies who are approved under a temporary opportunity to retroactively request the use CCDF funds, including most COVID-relief funds, for construction and/or major renovation with the intent of offsetting increased costs of materials, labor, and other related project costs.

Annual Burden Estimates
Title of information collection | Number of respondents | Annual frequency of responses | Hourly burden per response | Annual hourly burden
ACF-696T | 219 | 1 | 5 | 1,095

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 14 days of this publication.

Authority: 42 U.S.C. 9857, 42 U.S.C. 618.

Mary C. Jones,
ACF/OPRE Certifying Officer.

[FR Doc. 2024-19916 Filed 9-4-24; 8:45 am]

BILLING CODE 4184-25-P